DEPARTMENT OF ENERGY

National Nuclear Security Administration

Notice of Addition of Property for the Kansas City Plant Facilities

AGENCY: National Nuclear Security Administration (NNSA), U.S. Department of Energy (DOE).

ACTION: Notice of Addition of Property for the Kansas City Plant Facilities.

SUMMARY: Notice is hereby given that the U.S. Department of Energy, pursuant to Section 229 of the Atomic Energy Act of 1954, as amended, prohibits the unauthorized entry and the unauthorized introduction of weapons or dangerous materials into or upon the facilities of the Kansas City Plant of the United States Department of Energy, National Nuclear Security Administration, National Security Campus. The facilities are described in this notice.

DATES: This action is effective on October 26, 2012.

FOR FURTHER INFORMATION CONTACT: Laurel I. Hautala, Director, Security & Information Technology Systems, NNSA Kansas City Plant, 14520 Botts Road, Kansas City, MO 64147, Telephone: (816) 997-5109, Facsimile: (816) 997-3718.

Albert N. Guarino, Site Counsel, NNSA Kansas City Plant, 14520 Botts Road, Kansas City, MO 64147, Telephone: (816) 997-3344, Facsimile: (816) 997-3718.

SUPPLEMENTARY INFORMATION: Public notice of the section 229 boundary of the Kansas City Plant was initially made in the Federal Register notice published October 19, 1965 (30 FR 13290). The boundary was revised on November 25, 1983 (48 FR 56822-568224).

Pursuant to section 229 of the Atomic Energy Act, as implemented by DOE regulations at 10 CFR part 860 (28 FR 8400, Aug. 26, 1963), the following additions to the existing boundary are made: add to the existing 229 Boundary the tracts which comprise the U.S. Department of Energy, National Nuclear Security Administration, Kansas City Plant National Security Campus. The additions are described in further detail in the paragraphs that follow. DOE regulations prohibit the unauthorized entry (10 CFR 860.3) and the unauthorized introduction of weapons or dangerous materials (10 CFR 860.4) into or upon the facilities.

Property Description: All of Lot 1 and all of Tract “A”, NNSA National Security Campus, a subdivision of land recorded July 14, 2010 as Document No. 2010E0067288, in Book I134, at Page 17 and located in the South half of the Section 27, Township 47 North, Range 33 West of the 5th Principal Meridian in Kansas City, Jackson County, Missouri, except all that part of said Lot 1 and Tract “A” that is located within a 30.00 feet strip of land labeled on said plat as a 30.00 feet Public Use Access Easement that runs in a general East-West direction across the Southerly part of said Lot 1 and Tract “A” that splits this description into two tracts of land, herein referred to as the North Tract and South Tract. The North Tract contains part of said Lot 1 and part of said Tract “A” and the South Tract contains only part of said Lot 1, said tracts are bounded and described as follows:

North Tract

Beginning at the Northeast corner of said Lot 1, thence South 03°40′55″ West, along the East line of said Lot 1, 1,465.84 feet to the North line of said 30.00 feet Public Use Access Easement; thence Westerly along said Northerly line the following twelve (12) courses, thence North 86°18′56″ West, 105.22 feet; thence South 78°41′04″ West, 61.93 feet; thence North 86°18′56″ West, 337.93 feet; thence South 48°41′04″ West, 107.66 feet; thence Southwesterly along a curve to the right having an initial tangent bearing of South 04°10′04″ East with a radius of 336.50 feet, a central angle of 82°24′19″ and an arc distance of 483.97 feet; thence South 78°14′16″ West, 1,135.12 feet; thence North 86°45′44″ West, 336.14 feet; thence South 78°14′16″ West, 305.90 feet; thence South 54°14′16″ West, 191.35 feet; thence South 72°14′16″ West, 202.79 feet; thence North 86°33′10″ West, 261.62 feet; thence North 84°02′34″ West, 239.59 feet to a point on the Westerly line of said Tract “A″ and on the Easterly line of the Kansas City Southern Railway as now established; thence North 10°11′18″ East, departing the North line of said 30′ Public Use Access Easement, along last said Westerly and Easterly lines, 1,603.05 feet; thence North 16°01′41″ East along last said lines, 460.28 feet; thence North 29°26′28″ East along last said lines, 267.40 feet to the Northeast corner of said Tract “A” and the Northwest corner of said Lot 1; thence North 71°31′55″ East along the Northerly line of said Lot 1, 532.50 feet; thence South 86°43′47″ East, along said Northerly line, 2,496.07 feet to the Point of Beginning, containing 6,582,366 square feet, or 151.11 acres, more or less.

South Tract

Commencing at the Northeast corner of said Lot 1, thence South 03°40′55″ West, along the East line of said Lot 1, 1,465.84 feet to the North line of said 30.00 feet Public Use Access Easement; thence continuing South 03°40′55″ West, along the East line of said Lot 1, 30.00 feet to the South line of said 30.00 feet Public Use Access Easement and the Point of Beginning of said South Tract; thence Westerly along said Northerly line the following ten (10) courses: thence North 86°18′56″ West, 101.27 feet; thence South 78°41′04″ West, 61.93 feet; thence North 86°18′56″ West, 329.45 feet; thence South 48°41′04″ West, 80.72 feet; thence Southwesterly along a curve to the right having an initial tangent bearing of South 01°47′57″ East with a radius of 366.50 feet, a central angle of 80°02′13″ and an arc distance of 511.97 feet; thence South 78°14′16″ West, 1,139.07 feet; thence North 86°45′44″ West, 336.14 feet; thence South 78°14′16″ West, 295.57 feet; thence South 54°14′16″ West, 189.72 feet; thence South 72°14′16″ West, 214.26 feet to the Southerly line of said Lot 1 and the Northerly line of Missouri Highway No. 150 (East 147th Street) as now established; thence Westerly, departing the North line of said 30′ Public Use Access Easement, along last said Northerly and Southerly lines the following seventeen (17) courses; thence South 86°41′46″ East, 159.65 feet; thence North 75°33′51″ East, 69.01 feet; thence South 86°24′47″ East, 196.85 feet; thence North 82°16′37″ East, 50.17 feet; thence South 86°24′47″ East, 164.05 feet; thence South 71°29′56″ East, 118.14 feet; thence South 86°31′24″ East, 541.32 feet; thence North 83°35′46″ East, 83.02 feet; thence South 86°28′41″ East, 32.21 feet; thence North 03°33′00″ East, 54.13 feet; thence South 86°24′55″ East, 131.23 feet; thence South 03°33′00″ West, 54.13 feet; thence South 86°24′55″ East, 83.09 feet; thence South 76°36′51″ East, 83.36 feet; thence South 86°27′00″ East, 164.04 feet; thence North 76°03′07″ East, 172.00 feet; thence South 86°25′19″ East, 69.39 feet; thence Westerly and Northerly, departing last said Northerly right of way line, and continuing along the Southerly line and Easterly lines of said Lot 1, the following nine (9) courses; thence North 76°41′05″ East, 322.04 feet; thence North 73°14′16″ East, 359.91 feet; thence North 66°04′44″ East, 42.58 feet; thence North 27°15′23″ East, 31.74 feet; thence North 14°25′20″ East, 106.40 feet; thence North 02°12′07″ West, 179.82 feet; thence North 14°11′40″ East, 140.04 feet; thence South 86°19′05″ East, 58.56 feet; thence North 03°40′55″ East, 296.80 feet to the Point of Beginning, containing 1,188,544 square feet or 27.29 acres, more or less.

This revised boundary is in addition to the property description contained in the Federal Register notice published October 19, 1965 (30 FR 13290) and revised on November 25, 1983 (48 FR 56822-56824). Addition of the National Security Campus property does not terminate the prior Kansas City Plant section 229 listing.

Issued in Kansas City, MO, this 18th day of October, 2012.
Laurel I. Hautala,
Director, Security & Information Technology Systems, NNSA Kansas City Plant.

[FR Doc. 2012-26372 Filed 10-25-12; 8:45 am]

BILLING CODE 6450-01-P